DEPARTMENT OF LABOR

Employment and Training Administration

[TA-W-62,101]

American Woodmark, Hardy County Plant, Moorefield, WV; Notice of Negative Determination on Reconsideration

On November 30, 2007, the Department issued an Affirmative Determination Regarding Application for Reconsideration for the workers and former workers of the subject firm. The notice was published in the Federal Register on December 11, 2007 (72 FR 70344).

The initial investigation resulted in a negative determination based on the finding that imports of kitchen cabinet parts did not contribute importantly to worker separations at the subject firm and no shift of production to a foreign source occurred. The investigation also revealed that the products manufactured at the subject firm are sent to other affiliated facilities for further finishing and assembly.

The Carpenters Industrial Council, United Brotherhood of Carpenters and Joiners of America filed a request for reconsideration in which they contend that the workers of the subject firm build and assemble the finished products, which does not require further manufacturing and are sold to customers. The petitioner also requested that the Department of Labor investigate whether there was an increase in imports of articles like or directly competitive with products manufactured at the subject firm.

The Department contacted a company official to verify products manufactured at the subject firm and whether the subject firm had any outside customers. During reconsideration, the company official provided new information and confirmed that the subject firm manufactures kitchen cabinet parts and hardwood cabinets which are sold to outside customers. The official also supplied the Department with a list of major declining customers who purchased hardwood cabinets from the subject firm.

The Department of Labor surveyed the major declining customers of the subject firm regarding their purchases of like or directly competitive products with hardwood cabinets purchased from the subject firm in 2005, 2006, and during January through September 2007 over the corresponding 2006 period. The survey revealed that the customers did not increase their import purchases while decreasing purchases from the subject firm.

The subject firm did not import hardwood cabinets nor was there a shift in production from subject firm abroad during the relevant period.

Conclusion

After reconsideration, I affirm the original notice of negative determination of eligibility to apply for worker adjustment assistance for workers and former workers of American Woodmark, Hardy County Plant, Moorefield, West Virginia.

Signed at Washington, DC, this 29th day of January, 2008.
Elliott S. Kushner,
Certifying Officer, Division of Trade Adjustment Assistance.

[FR Doc. E8-2236 Filed 2-6-08; 8:45 am]

BILLING CODE 4510-FN-P